DEPARTMENT OF HEALTH AND HUMAN SERVICES

Centers for Medicare & Medicaid Services

[Document Identifier: CMS-382]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension without change of a currently approved collection; Title of Information Collection: ESRD Beneficiary Selection and Supporting Regulations Contained in 42 CFR 414.330; Use: Section 2145 amended section 1881 of the Social Security Act and changes the way the Medicare program pays for home dialysis services. Medicare patients who currently receive dialysis in a facility but later become home dialysis patients must complete the CMS-382 form at the time they go to the home setting. Facilities are required to have all Medicare home dialysis patients choose one of two payment methods. Under Method I, the dialysis facility assumes responsibility for patient care and the facility provides all dialysis equipment and supplies needed to dialyze at home. The facility is required to order, store, deliver, and pay the manufacturers and suppliers for these items. Under Method II, the beneficiary makes his/her own arrangement for securing the necessary supplies and dialysis equipment. Then, the supplier bills the Medicare program (Carrier) for payment.

Form Number: CMS-382 (OMB#: 0938-0372); Frequency: Reporting—Yearly; Affected Public: Individuals or households; Number of Respondents: 7400; Total Annual Responses: 7400; Total Annual Hours: 617.

To obtain copies of the supporting statement and any related forms for the proposed paperwork collections referenced above, access CMS Web Site address at http://www.cms.hhs.gov/PaperworkReductionActof1995, or E-mail your request, including your address, phone number, OMB number, and CMS document identifier, to Paperwork@cms.hhs.gov, or call the Reports Clearance Office on (410) 786-1326. To be assured consideration, comments and recommendations for the proposed information collections must be received by the OMB desk officer at the address below, no later than 5 p.m. on December 17, 2007. OMB Human Resources and Housing Branch, Attention: Carolyn Lovett, New Executive Office Building, Room 10235, Washington, DC 20503, Fax Number: (202) 395-6974.

Dated: November 7, 2007.
Michelle Shortt,
Director, Regulations Development Group, Office of Strategic Operations and Regulatory Affairs.

[FR Doc. E7-22268 Filed 11-15-07; 8:45 am]

BILLING CODE 4120-01-P